DEPARTMENT OF TRANSPORTATION

Surface Transportation Board

[STB Ex Parte No. 558 (Sub-No. 4)]

Railroad Cost of Capital—2000

AGENCY: Surface Transportation Board.

ACTION: Notice of decision.

SUMMARY: On July 2, 2001 the Board served a decision to update its computation of the railroad industry's cost of capital for 2000. The composite after-tax cost of capital rate for 2000 is found to be 11.0%, based on a current cost of debt of 8.0%; a cost of common equity capital of 13.9%; a cost of preferred equity capital of 6.3%; and a capital structure mix comprised of 45.4% debt, 52.1% common equity, and 2.5% preferred equity. The cost of capital finding made in this proceeding will be used in a variety of Board proceedings.

EFFECTIVE DATE: This action is effective July 2, 2001.

FOR FURTHER INFORMATION CONTACT: Leonard J. Blistein, (202) 565-1529. [TDD for the hearing impaired: (800) 877-8339.]

SUPPLEMENTARY INFORMATION: The cost of capital finding in this decision may be used for a variety of regulatory purposes. To obtain a copy of the full decision, write to, call, or pick up in person from: Da-To-Da Office Solutions., Room 405, 1925 K Street, N.W., Washington, DC 20423. Telephone: 202 293-7776, Fax 202 293-0770. Assistance for the hearing impaired is available through TDD services 1-800-877-8339. The decision is also available on the Board's internet site at www.stb.dot.gov.

Environmental and Energy Considerations

This action will not significantly affect either the quality of the human environment or the conservation of energy resources.

Regulatory Flexibility Analysis

Pursuant to 5 U.S.C. 605(b), we conclude that our action in this proceeding will not have a significant economic impact on a substantial number of small entities. The purpose and effect of this action are to update the annual railroad industry cost of capital finding by the Board. No new reporting or other regulatory requirements are imposed, directly or indirectly, on small entities.

Authority: 49 U.S.C. 10704(a).

Decided: June 26, 2001.
By the Board, Chairman Morgan, Vice Chairman Clyburn, and Commissioner Burkes.
Vernon A. Williams,
Secretary.

[FR Doc. 01-16592 Filed 6-29-01; 8:45 am]

BILLING CODE 4915-00-P